DEPARTMENT OF ENERGY

Federal Energy Regulatory Commission

[Docket No. RP04-61-001]

El Paso Natural Gas Company; Notice of Compliance Filing

February 18, 2004.

Correction

In notice document E4-359 beginning on page 8395 in the issue of Tuesday, February 24, 2004, make the following correction:

On page 8395, in the third column, the docket number should read as set forth above.

[FR Doc. E4-359 Filed 3-2-04; 8:45 am]

BILLING CODE 1505-01-D

DEPARTMENT OF HEALTH AND HUMAN SERVICES

National Institutes of Health

National Institute of Child Health and Human Development; Notice of Closed Meeting

Correction

In notice document 04-3507 appearing on page 7768 in the issue of Thursday, February 19, 2004, make the following correction:

On page 7768, in the third column, the 23rd line should read, “Date: March 15-16, 2004.”

[FR Doc. C4-3507 Filed 3-2-04; 8:45 am]

BILLING CODE 1505-01-D

DEPARTMENT OF TRANSPORTATION

Federal Aviation Administration

14 CFR Part 71

[Docket No. FAA-2004-16984; Airspace Docket No. 04-ACE-2]

Modification of Class E Airspace; Clinton, MO

Correction

In rule document 04-4186 beginning on page 8556 in the issue of Wednesday, February 25, 2004, make the following correction:

On page 8556, in the third column, under DATES, in the fourth line, “March 20, 2004” should read, “March 30, 2004.”

[FR Doc. C4-4186 Filed 3-2-04; 8:45 am]

BILLING CODE 1505-01-D